DEPARTMENT OF VETERANS AFFAIRS

Advisory Committee on Gulf War Veterans; Notice of Meeting

The Department of Veterans Affairs (VA) gives notice under Public Law 92-463 (Federal Advisory Committee Act) that the Advisory Committee on Gulf War Veterans will hold a meeting on September 24-25, 2008, at the Residence Inn by Marriott, 1199 Vermont Avenue, NW., Washington, DC.

The purpose of the Committee is to provide advice and recommendations to the Secretary of Veterans Affairs on issues that are unique to veterans who served in the Southwest Asia theater of operations during the 1990-1991 period of the Gulf War.

On September 24, the Committee will meet in open session from 8:30 a.m. to 12 noon. This session will focus on the Veterans Health Administration (VHA) with emphasis on the Gulf War Registry and outreach activities, a review of the priority groups for health care enrollment, and a panel discussion on clinical care research, guidelines and practices.

In the afternoon of September 24, the Committee will meet in closed session at the Washington, DC VA Medical Center (VAMC). The Committee will be meeting with clinicians and individual patients receiving services at the VAMC. The session will be closed to protect the privacy of the patients and to minimize possible interference with the delivery of medical services at the VAMC. Closing the meeting is in compliance with 5 U.S.C. 552b(c)(6).

On September 25, the Committee will meet in open session from 8:30 a.m. to 4:30 p.m. and will focus on activities by the Veterans Benefits Administration (VBA), particularly those activities conducted by VBA's Compensation and Pension Service. This will include discussions concerning the disability compensation system, the chronology of VBA responses to Gulf War issues including its actions responding to statutory changes, and VBA's outreach to Gulf War veterans.

Public comments will be received on September 24, from 11:15 a.m. until 11:45 a.m. and on September 25, from 1 p.m. until 1:30 p.m. Individuals wishing to speak must register not later than September 17, 2008, by contacting Lelia Jackson at (202) 461-5758 or by e-mail at lelia.jackson@va.gov, and by submitting 1-2 page summaries of their comments for inclusion in the official record. Public comments will be limited to five minutes each. A sign-in sheet will be available each day. Members of the public may also submit written statements for the Committee's review to the Advisory Committee on Gulf War Veterans, Department of Veterans Affairs, 810 Vermont Avenue, NW., Washington, DC 20420.

Interested parties may also listen in by teleconferencing into the meeting. The toll-free teleconference line will be open from 8:30 a.m. until 12 noon on September 24 and from 8:30 a.m. until 4:30 p.m. on September 25. To register for the teleconference, contact Lelia Jackson at (202) 461-5758 or Lelia.jackson@va.gov.

Any member of the public seeking additional information should contact Laura O'Shea, Designated Federal Officer, at (202) 461-5765.

Dated: August 6, 2008.
By Direction of the Secretary.
E. Philip Riggin,
Committee Management Officer.

[FR Doc. E8-18787 Filed 8-13-08; 8:45 am]

BILLING CODE 8320-01-P